DEPARTMENT OF LABOR

Employment and Training Administration

[TA-W-62,414]

Consistent Textile Industries Dallas, North Carolina; Notice of Affirmative Determination Regarding Application for Reconsideration

On November 27, 2007, the Department of Labor (Department) received a request for administrative reconsideration of the Department's Notice of Negative Determination Regarding Eligibility to Apply for Worker Adjustment Assistance, applicable to workers and former workers of the subject firm. The negative determination was issued on November 13, 2007. The Department's Notice of determination will soon be published in the Federal Register.

The negative determination was based on the Department's findings that, during the relevant period, the subject firm did not separate or threaten to separate a significant number or proportion of workers as required by Section 222 of the Trade Act of 1974. The petition stated that two workers were separated and the company official stated in the initial investigation that the company consisted of fewer than 50 workers.

In the request for reconsideration, a worker alleged that three workers were separated from the subject firm during the relevant period.

The Department has carefully reviewed the worker's request for reconsideration and has determined that the Department will conduct further investigation.

Conclusion

After careful review of the application, I conclude that the claim is of sufficient weight to justify reconsideration of the U.S. Department of Labor's prior decision. The application is, therefore, granted.

Signed at Washington, DC, this 29th day of November 2007.
Elliott S. Kushner,
Certifying Officer, Division of Trade Adjustment Assistance.

[FR Doc. E7-23908 Filed 12-10-07; 8:45 am]

BILLING CODE 4510-FN-P